DEPARTMENT OF COMMERCE

National Oceanic and Atmospheric Administration

50 CFR Part 635

[Docket No. 110527309-1307-01]

RIN 0648-BA90

Atlantic Highly Migratory Species; 2011 North and South Atlantic Swordfish Quotas

AGENCY: National Marine Fisheries Service (NMFS), National Oceanic and Atmospheric Administration (NOAA), Commerce.

ACTION: Proposed rule; request for comments.

SUMMARY: This proposed rule would adjust the North and South Atlantic swordfish quotas for the 2011 fishing year to account for 2010 underharvests and landings. This proposed rule incorporates International Commission for the Conservation of Atlantic Tunas (ICCAT) recommendations 10-02 and 09-03 into the quota adjustments for the 2011 fishing year. These recommendations extend, through the 2011 fishing year, the previously established baseline quotas for North and South Atlantic swordfish. Without this rule, the United States would be out of compliance with ICCAT recommendations.

DATES: Comments on this proposed rule may be submitted by July 25, 2011.

ADDRESSES: You may submit comments, identified by RIN 0648-BA90, by any one of the following methods:

• Electronic Submissions: Submit all electronic public comments via the Federal eRulemaking Portal at http://www.regulations.gov.

• Fax: 301-713-1917, Attn: Jennifer Cudney.

• Mail: 1315 East-West Highway, Silver Spring, MD 20910.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Jennifer Cudney or Karyl Brewster-Geisz by phone (301-713-2347) or by fax (301-713-1917).

Copies of the supporting documents—including the 2007 Environmental Assessment (EA), Regulatory Impact Review (RIR), Final Regulatory Flexibility Analysis (FRFA), and the 2006 Consolidated Atlantic Highly Migratory Species (HMS) Fishery Management Plan (FMP)—are available from the HMS Web site at http://www.nmfs.noaa.gov/sfa/hms/.

SUPPLEMENTARY INFORMATION: The U.S. Atlantic swordfish fishery is managed under the 2006 Consolidated HMS FMP. Implementing regulations at 50 CFR part 635 are issued under the authority of the Magnuson-Stevens Fishery Conservation and Management Act (Magnuson-Stevens Act), 16 U.S.C. 1801 et seq., and the Atlantic Tunas Convention Act (ATCA), 16 U.S.C. 971 et seq. As an active member of ICCAT, the United States implements the binding recommendations of ICCAT to comply with this international treaty. Under ATCA, Congress granted the authority to promulgate regulations as may be necessary and appropriate to implement binding recommendations of ICCAT.

North Atlantic Swordfish Quota

ICCAT recommendation 06-02 established a western North Atlantic swordfish total allowable catch (TAC) of 14,000 metric tons (mt) whole weight (ww) (10,526 mt dressed weight (dw)) through 2008. Of this TAC, the United States baseline quota was 2,937.6 mt dw (3,907.3 mt ww) per year. ICCAT recommendation 08-02 extended recommendation 06-02 through 2009, and maintained the U.S. previous years' quota allocation of 2,937.6 mt dw. ICCAT recommendation 09-02 reduced the western North Atlantic TAC to 13,700 mt ww (10,300.8 mt dw) through 2010. Of the 13,700 mt ww TAC, the United States continued to be allocated 2,937.6 mt dw (3,907.3 mt ww). At the 2010 ICCAT meeting, recommendation 10-02 was adopted for North Atlantic Swordfish for one year. Recommendation 10-02 included a total TAC of 13,700 mt ww, maintained the previous years' U.S. quota allocation of 2,937.6 mt dw, and maintained an 18.8 mt dw annual transfer to Canada. ICCAT recommendation 10-02 also limited the amount of North Atlantic swordfish underharvest that can be carried forward by all Contracting Parties, non-Contracting Cooperating Parties, Entities and Fishing Entities (CPCs) to 50 percent of the baseline quota allocation. Therefore, the United States may carry over a maximum of 1,468.8 mt dw of underharvests from the previous year (2010) to be added to the 2011 baseline quota.

This proposed rule would adjust the U.S baseline quota for the 2011 fishing year to account for the 2010 underharvests. The 2011 North Atlantic swordfish baseline quota is 2,937.6 mt dw. The preliminary North Atlantic swordfish underharvest for 2010 was 2,921.10 mt dw, which exceeds the maximum carryover cap of 1,468.8 mt dw. Therefore, NMFS proposes to carry forward the capped amount per the ICCAT recommendation 10-02. The baseline quota plus the underharvest carryover maximum of 1,468.8 mt dw equals 4,406.4 mt dw, which is the proposed adjusted quota for the 2011 fishing year. From that proposed adjusted quota, the directed category would be allocated 3,677.1 mt dw that would be split equally into two seasons in 2010 (January through June, and July through December). The reserve category would be reduced from a quota of 448.1 mt dw to 429.3 mt dw due to the transfer of 18.8 mt dw to Canada per recommendation 10-02 (Table 1). This proposed rule would also allocate 300 mt dw to the incidental category, which includes recreational landings for the 2011 fishing season, per § 635.27 (c)(1)(i)(B). These landings are based on preliminary data. As late reports are received and the data go through a quality control process, some data may change. Any changes will be described in the final rule, as appropriate.

South Atlantic Swordfish Quota

ICCAT recommendation 06-03 established the South Atlantic swordfish TAC at 17,000 mt ww for 2007, 2008, and 2009. Of this, the United States received 75.2 mt dw (100 mt ww). As with the North Atlantic swordfish recommendation, ICCAT recommendation 06-03 established a cap on the amount of underharvest that can be carried forward. For South Atlantic swordfish, the United States is limited to carrying forward 100 percent (75.2 mt dw). The most recent South Atlantic swordfish measure, recommendation 09-03, is a 3-year measure that reduced the TAC to 15,000 mt dw but maintains the previous years' U.S. quota share of 75.2 mt dw (100 mt ww) through 2012.

ICCAT recommendation 09-03 also requires that a total of 75.2 mt dw (100 mt ww) of the U.S. South Atlantic swordfish quota be transferred to other countries. These transfers are 37.6 mt dw (50 mt ww) to Namibia, 18.8 mt dw (25 mt ww) to Cote d'Ivore, and 18.8 mt dw (25 mt ww) to Belize. In 2010, the 75.2 mt dw that was transferred to these countries came entirely from the 2009 U.S. underharvested quota. In 2010, U.S. fishermen landed 0.2 mt dw of the U.S. quota. As such, due to 2010 landings of 0.2 mt dw, the United States only has 75.0 mt dw of the 2010 underharvest available for transfer and must transfer the remaining 0.2 mt dw from the 2011 baseline quota. Therefore, the 2011 adjusted quota for South Atlantic swordfish is 75.0 mt dw (Table 1).

Impacts

In recent years, the United States has not caught its entire swordfish quota. Beginning in 2007, the amount of underharvest that was available for carryover was capped at 50 percent of the quota for North Atlantic swordfish, and 100 percent for South Atlantic swordfish. The proposed adjusted quota for the North Atlantic swordfish, after accounting for the 2010 underharvests and annual transfer to Canada, would be the same in 2011 as the 2007 adjusted quota specifically examined in the Environmental Assessment (EA) that was prepared for the 2007 Swordfish Quota Specification Final Rule published on October 5, 2007 (72 FR 56929). While the 2011 baseline quota for South Atlantic swordfish is the same as that examined in the above mentioned EA, the proposed adjusted quota for the South Atlantic swordfish, after accounting for the 2010 landings and the transfer to other countries, would be 0.2 mt dw less than the adjusted quota examined in the EA. The quota adjustments would not increase overall quotas and are not expected to increase fishing effort, protected species interactions, or environmental effects beyond those considered in the EA mentioned above. Therefore, because there would be no changes to the swordfish management measures in this proposed rule, or the affected environment or any environmental effects that have not been previously analyzed, NMFS has determined that the proposed rule and impacts to the human environment as a result of the quota adjustments are not significant and therefore additional NEPA analysis beyond that discussed in the 2007 EA is not required.

Administrative Change

This proposed rule also makes a minor modification to the regulatory text. In the proposed rule establishing the 2003 swordfish quotas for the North and South Atlantic fisheries (68 FR 36967; June 20, 2003), NMFS proposed several changes to the regulatory text. In that proposed rule, NMFS included the sentence “The annual incidental category quota is 300 mt dw for each fishing year.” That sentence had been in the regulations for several years previous to that proposed rule. NMFS recently noticed that that sentence was inadvertently removed in the final rule (69 FR 68090; November 23, 2004) that finalized the swordfish quotas for that fishing year. NMFS proposes to reinstate that sentence in the regulatory text.

Table 1—Landings and Quotas for the Atlantic Swordfish Fisheries (2007-2011)
North Atlantic Swordfish quota (mt dw) | 2007 | 2008 | 2009 | ** 2010 | 2011
Baseline Quota | 2,937.6 | 2,937.6 | 2,937.6 | 2,937.6 | 2,937.6
Quota Carried Over | 1,468.8 | 1,468.8 | 1,468.8 | 1,468.8 | 1,468.8
Adjusted quota | 4,406.4 | 4,406.4 | 4,406.4 | 4,406.4 | 4,406.4
Quota Allocation | Directed Category | 3,601.9 | 3,620.7 | 3,639.5 | 3,658.3 | 3,677.1
| Incidental Category | 300.0 | 300.0 | 300.0 | 300.0 | 300.0
| Reserve Category | 504.5 | 485.7 | 466.9 | 448.1 | 429.3
Utilized Quota | Landings | 1,907.3 | 1,752.7 | 2,027.0 | ** 1,466.5 | TBD
| Reserve Transfer to Canada | 18.8 | 18.8 | 18.8 | 18.8 | 18.8
Total Underharvest | 2,480.3 | 2,634.9 | 2,360.6 | ** 2,921.1 | TBD
Dead Discards | 109.8 | 149.8 | 106.8 | TBD | TBD
Carryover Available + | 1,468.8 | 1,468.8 | 1,468.8 | 1,468.8 | TBD
South Atlantic Swordfish Quota (mt dw) | 2007 | 2008 | 2009 | ** 2010 | 2011
Baseline Quota | 75.2 | 75.2 | 75.2 | 75.2 | 75.2
Quota Carried Over | 75.2 | 75.2 | 75.2 | * 0.0 | * −0.2
Adjusted quota | 150.4 | 150.4 | 75.2 | 75.2 | 75.0
Landings | 0.0 | 0.0 | 0.0 | ** 0.2 | TBD
Carryover Available | 75.2 | 75.2 | 75.2 | 75.0 | TBD
+ Under harvest is capped at 50 percent of the baseline quota allocation for the North Atlantic and 75.2 dw (100 mt ww) for the South Atlantic.
* Under 09-03, 100 mt ww of the U.S. underharvest and base quota, as necessary, was transferred to Namibia (37.6 mt dw, 50 mt ww), Cote d'Ivore (18.8 mt dw, 25 mt ww), and Belize (18.8 mt dw, 25 mt ww).
** 2010 landings data are preliminary and are subject to change based on the 2011 ICCAT National Report.

Public Hearings

Public hearings on this proposed rule are not currently scheduled. If you would like to request a public hearing please contact Jennifer Cudney or Karyl Brewster-Geisz by phone at 301-713-2347.

Classification

The NMFS Assistant Administrator has determined that this proposed rule is consistent with the Consolidated HMS FMP, the Magnuson-Stevens Act, ATCA, and other applicable law, subject to further consideration after public comment.

This proposed rule has been determined to be not significant for purposes of Executive Order 12866.

The Chief Council for Regulation of the Department of Commerce certified to the Chief Council for Advocacy of the Small Business Administration that this proposed rule, if adopted, would not have a significant economic impact on a substantial number of small entities because the United States is not expected to catch its entire quota, and the quota adjustments are the same in 2011 as they were in 2007, 2008, 2009, and 2010.

The National Marine Fisheries Service (NMFS) published a final rule on October 5, 2007 (72 FR 56929), that established the 2,937.6 metric tons (mt) dressed weight (dw) and 75.2 mt dw yearly baseline quotas for the North and South Atlantic swordfish, respectively; established an underharvest carryover cap of 50 percent of the baseline quota for North Atlantic swordfish and 100 percent of the baseline quota for South Atlantic swordfish; and transferred 18.8 mt dw of quota to Canada from the reserve category in the North Atlantic. These actions were based upon the ICCAT recommendations 06-02 for North Atlantic swordfish and 06-03 for South Atlantic swordfish. Under ATCA, the United States may promulgate regulations as necessary and appropriate to implement binding recommendations of ICCAT.

At the 2010 ICCAT meeting, recommendation 10-02 was adopted for North Atlantic Swordfish for one year. Recommendation 10-02 maintains the U.S. previous years' quota allocation of 2,937.6 mt dw as well as an 18.8 mt dw annual transfer to Canada. As such, the proposed 2011 adjusted quota is 4,406.4 mt dw for North Atlantic swordfish.

This proposed rule would also adjust the 2011 baseline quota for the South Atlantic swordfish fisheries for the 2011 fishing year (January 1, 2011, through December 31, 2011) to account for 2010 underharvests per § 635.27(c) based on ICCAT recommendation 09-03. The ICCAT South Atlantic swordfish measure, recommendation 09-03, is a 3-year measure that maintains the U.S. quota share of 75.2 mt dw (100 mt whole weight (ww)). Recommendation 09-03 also states that a total of 75.2 mt dw (100 mt ww) of the U.S. South Atlantic swordfish quota be transferred to other countries. These transfers have been drawn from underharvests rolled over from the previous year. Due to 2010 landings of 0.2 mt dw, the United States can only transfer 75.0 mt dw of underharvest in 2011; the remaining 0.2 mt must be transferred from the baseline quota. These transfers are 37.6 mt dw (50 mt ww) to Namibia, 18.8 mt dw (25 mt ww) to Cote d'Ivore, and 18.8 mt dw (25 mt ww) to Belize. Therefore, the proposed 2011 adjusted quota is 75.0 mt dw for South Atlantic swordfish (Table 1).

The commercial swordfish fishery is comprised of fishermen who hold a swordfish directed, incidental, or handgear limited access permit (LAP) and the related industries, including processors, bait houses, and equipment suppliers, all of which NMFS considers to be small entities according to the size standards set by the Small Business Administration. As of October 2010, there were approximately 177 fishermen with a directed swordfish LAP, 72 fishermen with an incidental swordfish LAP, and 75 fishermen with a handgear LAP for swordfish. Based on the 2009 swordfish ex-vessel price per pound of $3.49, the 2011 North and South Atlantic swordfish baseline quotas could result in gross revenues of $22,602,050 (6,476,232 lbs dw * $3.49) and $577,054 (165,345 lbs dw * $3.49), respectively, if the quotas were fully utilized. Under the adjusted quotas, the gross revenues could be $33,903,080 and $577,054, respectively, for fully utilized quotas. Potential revenues on a per vessel basis, considering a total of 324 swordfish permit holders, could be $104,639 for the North Atlantic swordfish fishery and $1,781 for the South Atlantic swordfish fishery.

List of Subjects in 50 CFR Part 635

Fisheries, Fishing, Fishing vessels, Foreign relations, Imports, Penalties, Reporting and recordkeeping requirements, Treaties.

Dated: June 17, 2011.
Samuel D. Rauch III,
Deputy Assistant Administrator for Regulatory Programs, National Marine Fisheries Service.

For the reasons set out in the preamble, 50 CFR part 635 is proposed to be amended as follows:

PART 635—ATLANTIC HIGHLY MIGRATORY SPECIES

1. The authority citation for part 635 continues to read as follows:

Authority: 16 U.S.C. 971 et seq.; 16 U.S.C. 1801 et seq.

2. In § 635.27, paragraph (c)(1)(i)(B) is revised to read as follows:

§ 635.27 Quotas.

* * * * *

(c) * * *

(1) * * *

(i) * * *

(B) A swordfish from the North Atlantic swordfish stock landed by a vessel for which an incidental catch permit for swordfish or an HMS Angling or Charter/Headboat permit has been issued, or caught after the effective date of a closure of the directed fishery from a vessel for which a directed fishery permit or a handgear permit for swordfish has been issued, is counted against the incidental catch quota. The annual incidental category quota is 300 mt dw for each fishing year.

* * * * *

[FR Doc. 2011-15641 Filed 6-17-11; 8:45 am]

BILLING CODE 3510-22-P